DEPARTMENT OF THE INTERIOR

Bureau of Land Management

[OR-014-01-1430-EU; GP-04-0239]

Competitive Sale of 520 Acres of Public Lands, OR 53188; Modified Competitive Sale of 40 Acres of Public Lands, OR 59445

AGENCY: Bureau of Land Management, Interior.

ACTION: Notice of Realty Action.

SUMMARY: The Bureau of Land Management (BLM) is considering for sale two parcels of land in Klamath County, Oregon, at not less than their respective appraised fair market value. A 520-acre parcel is proposed to be sold through competitive bidding. An adjoining 40-acre parcel is proposed to be sold through modified competitive bidding, whereby the adjacent land owner, will be given the opportunity to meet the highest bid.

DATES: All comments must be received in writing by BLM on or before bid dates, and are stated below in this notice.

ADDRESSES: Send all written comments concerning the proposed sales to Jon Raby, BLM, Klamath Falls Resource Area Field Manager, Klamath Falls Field Office, 2795 Anderson Ave., Building 25, Klamath Falls, Oregon 97603. Electronic format submittals will not be accepted.

FOR FURTHER INFORMATION CONTACT: Linda Younger, Realty Specialist, at (541) 883-6916.

SUPPLEMENTARY INFORMATION: In accordance with the applicable provisions of 43 CFR part 2710, the following described public lands in Klamath County, Oregon, are proposed to be sold pursuant to sections 203 and 209 of the Federal Land Policy and Management Act of 1976, (43 U.S.C. 1713 and 1719). Both of the parcels described herein are difficult and uneconomic to manage as a part of the public lands and are not suitable for management by another Federal agency. No significant resource values will be affected by their disposal. The parcels proposed for sale are identified as suitable for disposal in the Klamath Falls Resource Area Resource Management Plan, dated June 2, 1995.

The parcels described below are hereby segregated from appropriation under the public land laws including the mining laws until July 11, 2005. The segregative effect on these parcels imposed by publication of this notice will terminate on July 11, 2005, upon issuance of patents for the described properties, or publication of a notice in the Federal Register terminating the segregation, whichever occurs first.

Parcel I (Competitive Sale)

Willamette Meridian, Oregon

T. 40 S., R. 11 E.,

Sec. 27, SE¼SW¼, S½SE¼;

Sec. 33, E½NE¼;

Sec. 34, N½.

The area described contains 520 acres, more or less. The appraised market value for Parcel I is $182,000.00.

Sealed bids for Parcel I will be opened to determine the high bidder at 10 a.m. PST, December 15, 2004, at the BLM Klamath Falls Field Office (address stated above).

Offers to purchase Parcel I will be made only by sealed bids. All bids must be received at the BLM, Klamath Falls Field Office, 2795 Anderson Ave., Building 25, Klamath Falls, Oregon, 97603, not later than 4:30 p.m. PST, December 14, 2004.

The outside of bid envelopes for Parcel I must be clearly marked on the front lower left-hand corner with “BLM Land Sale OR 53188,” and the bid opening date. Bids must be for not less than the appraised market value of $182,000.00. Each sealed bid shall be accompanied by a certified check, postal money order, bank draft, or cashier's check made payable in U.S. Currency to the order of the Bureau of Land Management, for not less than 20 percent of the amount bid.

The bid envelope must also contain a statement showing the total amount bid and the name, mailing address, and phone number of the entity making the bid.

Parcel II (Modified Competitive Sale)

Willamette Meridian, Oregon

T. 40 S., R. 11 E.,

Sec. 34, NE¼SW¼.

The area described contains 40 acres, more or less. The appraised fair market value for this parcel is $5,000.00.

Offers to purchase Parcel II will be made only by sealed bid. All bids must be received at the BLM, Klamath Falls Field Office, 2795 Anderson Ave., Building 25, Klamath Falls, Oregon, 97603, not later than 4:30 p.m. PST, on December 14, 2004.

Sealed bids for Parcel II will be opened to determine the apparent high bidder at 9 a.m. PST, on December 15, 2004, at the BLM, Klamath Falls Field Office (address stated above).

The outside of the sealed bid envelopes for Parcel II, must be clearly marked on the front lower left-hand corner with “BLM Land Sale, OR 59445” and the bid opening date. Bids must be for not less than the appraised market value of $5,000.00. Each sealed bid shall be accompanied by a certified check, money order, bank draft, or cashiers check made payable in U.S. currency to the order of the Bureau of Land Management, for not less that 20 percent of the amount bid.

The bid envelope must also contain a statement showing the total amount bid and the name, mailing address, and phone number of the entity making the bid.

Under modified competitive sale procedures, the apparent high bidder and the designated bidder (Mr. Randall Turner) will be notified. Mr. Turner shall have 30 days from the bid opening date to exercise his right to meet the high bid. Refusal or failure for any reason to meet the highest bid shall constitute a waiver of Mr. Turner's preferential consideration and the apparent high bidder shall be declared the high bidder.

Additional Terms and Conditions of Sale

Prospective purchasers will be allowed 180 days to submit the balance of the purchase price. Failure to meet this timeframe shall cause the deposit to be forfeited to the BLM. The parcel will then be offered to the next lowest qualified bidder, or if no other bids were received, the parcel will be declared unsold.

Federal law requires that public land may be sold only to either (1) Citizens of the United States 18 years of age or older; (2) corporations subject to the laws of any State and of the United States; (3) other entities such as an association or a partnership capable of holding land or interests therein under the laws of the State within which the land is located; or (4) a State, State instrumentality or political subdivision authorized to-hold property. Certifications and evidence to this effect will be required of the purchaser prior to issuance of a patent.

The following rights, reservations, and conditions will be included in the patent that may be issued as to each of the above described parcels of land:

1. A reservation to the United States for a right-of-way for ditches and canals constructed by the authority of the United States. Act of August 30, 1890 (43 U.S.C. 945).

2. A reservation to the United States for all oil, gas and geothermal resources in the land in accordance with section 209 of the Federal Land Policy and Management Act of 1976 (43 U.S.C. 1719).

3. The patent will include a notice and indemnification statement under the Comprehensive Environmental Response, Compensation and Liability Act. All parcels are subject to the requirements of section 120(h) (42 U.S.C. section 9620) holding the United States harmless from any release of hazardous materials that may have occurred as a result of the unauthorized use of the property by other parties. No Warranty of any kind, express or implied, is given by the United States as to the title, physical condition or potential uses of the parcel of land proposed for sale.

4. The parcel is subject to valid existing rights.

The mineral interests being offered for conveyance have no known mineral value. A successful bid constitutes an application for conveyance of the mineral interest. In addition to the full purchase price, a nonrefundable fee of $50 will be required by the successful bidder for purchase of the mineral interests to be conveyed simultaneously with the sale of the land, with the exception of all leaseables, including oil, gas and geothermal interests, which will be reserved to the United States in accordance with section 209 of the Federal Land Policy and Management Act of 1976 (43 U.S.C. 1719).

The lands described herein are hereby segregated from appropriation under the public land laws, including the mining laws, pending disposition of this action or 270 days from the date of publication of this notice, whichever occurs first.

Public Comments

Detailed information concerning these proposed land sales, including the reservations, sale procedures and conditions, appraisals, planning and environmental documents, and mineral report is available for review at the Bureau of Land Management, Klamath Falls Field Office, 2795 Anderson Ave., Building 25, Klamath Falls, Oregon 97603.

Any adverse comments will be reviewed by the Manager of the BLM, Lakeview, Oregon, District Office, who may sustain, vacate, or modify this realty action. In the absence of any such comments, this realty action will become the final determination of the Department of the Interior.

Comments, including names, street addresses, and other contact information of respondents, will be available for public review. Individual respondents may request confidentiality. If you wish to request that BLM consider withholding your name, street address, and other contact information (such as: Internet address, FAX or phone number) from public review or from disclosure under the Freedom of Information Act, you must state this prominently at the beginning of your comment. BLM will honor requests for confidentiality on a case-by-case basis to the extent allowed by law. BLM will make available for public inspection in their entirety all submissions from organizations or businesses, and from individuals identifying themselves as representatives or officials of organizations or businesses.

(Authority: 43 CFR 2711.1-2)

Dated: September 9, 2004.
Don Hoffheins,
Acting Field Manager, Klamath Falls Resource Area.

[FR Doc. 04-23032 Filed 10-13-04; 8:45 am]

BILLING CODE 4310-33-P